DEPARTMENT OF THE INTERIOR

Bureau of Land Management

[ID-0778-1430-ES; IDI-32732]

Notice of Realty Action, Recreation and Public Purpose (R&PP) Act Classification, Idaho

AGENCY: Bureau of Land Management.

ACTION: Notice of realty action.

SUMMARY: The following public lands in Cassia County, Idaho have been examined and found suitable for classification for lease to the State of Idaho, Department of Parks and Recreation under the provisions of the Recreation and Public Purpose Act, as amended (43 U.S.C. 869 et seq.). The Idaho Department of Parks and Recreation proposes to use the land as a public campground for the City of Rocks National Reserve.

T. 15 S., R. 24 E., Boise Meridian

Section 33: E½SW¼NE¼, SE¼NE¼, NE¼SE¼, E½NW¼SE¼

The area described contains 120 acres, more or less, in Cassia County.

The proposed campground would include 89 camping units with 76 of them having water and electrical hookups for recreational vehicles (RV's), two shower and restroom facilities, septic tanks and associated drain fields, a 100 seat amphitheater, and an access road.

The above described lands are not needed for Federal purposes. The lease of these lands is consistent with the Cassia Resource Management Plan and would be in the public interest.

The lease, when issued, will be subject to the following terms, conditions, and reservations:

1. Provisions of the Recreation and Public Purposes Act and to all applicable regulations of the Secretary of the Interior.

2. Those rights for access road and buried pipeline purposes granted to the Idaho Department of Parks and Recreation by right-of-way IDI-31531.

3. Those rights for road use purposes reserved to the United States by right-of-way reservation IDI-30770.

4. A right-of-way for ditches and canals constructed by the authority of the United States.

5. All minerals shall be reserved to the United States, together with the right to prospect for, mine, and remove the minerals.

6. The lease would be issued subject to the proposed campground conceptual design submitted with the application as well as with its attached Schematic Site Plan. Prior to any construction activity, the detailed construction and design plans will be reviewed and approved by the BLM Authorized Officer.

7. Sixty days prior to an abandonment of the campground, the lessee shall contact the BLM authorized officer to arrange a joint inspection of the lease area. This inspection will be held to agree to an acceptable termination (and rehabilitation) plan. This plan shall include, but is not limited to, removal of facilities, drainage structures, or surface material, recontouring, topsoiling, or seeding. The BLM authorized officer must approve the plan in writing prior to the holder's commencement of any termination activities.

Detailed information concerning this action is available for review at the Burley Field Office of the Bureau of Land Management, 15 East 200 South, Burley, Idaho.

Upon publication of this notice in the Federal Register, the lands will be segregated from all other forms or appropriation under the public land laws, including the general mining laws, except for lease under the Recreation and Public Purpose Act and leasing under the mineral leasing laws.

For a period of 45 days from the date of publication of this notice in the Federal Register, interested persons may submit comments regarding the proposed classification or lease of the lands to the Field Office Manager, Burley Field Office, 15 East 200 South, Burley, Idaho 83318.

CLASSIFICATION COMMENTS: Interested parties may submit comments involving the suitability of the land for a public campground facility for the City of Rocks National Reserve. Comments on the classification are restricted to whether the land is physically suited for the proposal, whether the use will maximize the future use or uses of the land, whether the use is consistent with local planning and zoning, or if the use is consistent with State and Federal programs.

APPLICATION COMMENTS: Interested parties may submit comments regarding the specific use proposed in the application and plan of development, whether the BLM followed proper administrative procedures in reaching the decision, or any other factor not directly related to the suitability of the land for a public campground facility.

Any adverse comments will be reviewed by the State Director. In the absence of any adverse comments, the classification will become effective 60 days from the date of publication of this notice in the Federal Register.

Dated: October 18, 2001.
Theresa Hanley,
Burley Field Office Manager.

[FR Doc. 01-31762 Filed 12-26-01; 8:45 am]

BILLING CODE 4310-GG-P